OVERSEAS PRIVATE INVESTMENT CORPORATION

March 21, 2000 Board of Directors Meeting; Sunshine Act Meeting

TIME AND DATE: Tuesday, March 21, 2000, 1:00 p.m. (Open Portion) 1:30 p.m. (Closed Portion)

PLACE: Offices of the Corporation, Twelfth Floor Board Room, 1100 New York Avenue, N.W., Washington, D.C.

STATUS: Meeting Open to the Public from 1:00 p.m. to 1:30 p.m. Closed portion will commence at 1:30 p.m. (approx.)

MATTERS TO BE CONSIDERED:

1. President's Report.

2. OPIC Africa Investment Council.

3. Appointment—Robert B. Drumheller.

4. Approval of December 14, 1999 Minutes (Open Portion).

FURTHER MATTERS TO BE CONSIDERED: (Closed to the Public 1:30 p.m.)

1. Finance Project in Equatorial Guinea.

2. Insurance Project in Venezuela.

3. Insurance Project in Brazil.

4. Finance Project in Guatemala.

5. Finance Project in Papua New Guinea.

6. Approval of December 14, 1999 Minutes (Closed Portion).

7. Pending Major Projects.

8. Pending Reports.

CONTACT PERSON FOR INFORMATION: Information on the meeting may be obtained from Connie M. Downs at (202) 336-8438.

Dated: March 8, 2000.
Connie M. Downs,
OPIC Corporate Secretary.

[FR Doc. 00-6025 Filed 3-8-00; 10:47 am]

BILLING CODE 3210-01-M